COMMITTEE FOR PURCHASE FROM PEOPLE WHO ARE BLIND OR SEVERELY DISABLED

Procurement List Proposed Additions and Deletion

AGENCY: Committee for Purchase From People Who Are Blind or Severely Disabled.

ACTION: Proposed additions to and deletion from the procurement list.

SUMMARY: The Committee is proposing to add products and a service to the Procurement List that will be furnished by nonprofit agencies employing persons who are blind or have other severe disabilities, and deletes a service previously provided by such agency.

DATES: Comments must be received on or before: June 2, 2014.

ADDRESSES: Committee for Purchase From People Who Are Blind or Severely Disabled, 1401 S. Clark Street, Suite 10800, Arlington, Virginia, 22202-4149.

FOR FURTHER INFORMATION CONTACT: For further information or to submit comments contact: Barry S. Lineback, Telephone: (703) 603-7740, Fax: (703) 603-0655, or email CMTEFedReg@AbilityOne.gov.

SUPPLEMENTARY INFORMATION: This notice is published pursuant to 41 USC 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN: 4510-00-NIB-0113—Clean-Up Kit, Body Fluid Spill and Splatter, Surface Decontamination.

NPA: Envision, Inc., Wichita, KS.

Contracting Activity: DEFENSE LOGISTICS AGENCY TROOP SUPPORT, PHILADELPHIA, PA.

Coverage: C-List for 100% of the requirement of the Department of Defense, as aggregated by the Defense Logistics Agency Troop Support, Philadelphia, PA.

NSN: MR 339—Slicer, Banana, Plastic.

NSN: MR 340—Fruit Slicer, Round.

NSN: MR 341—Food Chopper, Double Bladed, Stainless.

NSN: MR 362—Set, Salad Bowl, Event Serverware.

NSN: MR 363—Set, Pitcher and Tumbler, Event Serverware.

NSN: MR 364—Set, Ice Bucket and Goblet, Event Serverware.

NSN: MR 383—Server, Beverage, w Spout, 1.25G.

NSN: MR 1096—Rack, Storage, Broom and Mop, Metal.

NSN: MR 1097—Utility Knife, Light Duty, Retractable.

NPA: Industries for the Blind, Inc., West Allis, WI.

Contracting Activity: DEFENSE COMMISSARY AGENCY, FORT LEE, VA.

Coverage: C-List for the requirements of military commissaries and exchanges as aggregated by the Defense Commissary Agency.

Service

Service Type/Location: Warehouse Service, Social Security Administration, Birmingham Social Security Center, 1200 Rev. Abraham Woods, Jr. Blvd., Birmingham, AL.

NPA: Alabama Goodwill Industries, Inc., Birmingham, AL.

Contracting Activity: Social Security Administration, HDQTRS—Office of Acquisition & Grants, Baltimore, MD.

Deletion

The following service is proposed for deletion from the Procurement List:

Service

Service Type/Location: Janitorial/Custodial Service, U.S. Federal Building, Courthouse and Post Office, 1400 E. Touhy Avenue, Council Bluffs, IA.

NPA: Nishna Productions, Inc., Shenandoah, IA.

Contracting Activity: General Services Administration, FPDS Agency Coordinator, Washington, DC.

Barry S. Lineback,
Director, Business Operations.

[FR Doc. 2014-10062 Filed 5-1-14; 8:45 am]

BILLING CODE 6353-01-P